ENVIRONMENTAL PROTECTION AGENCY

[ER-FRL-9026-3]

Environmental Impact Statements; Notice of Availability

Responsible Agency: Office of Federal Activities, General Information (202) 564-7146 or http://www2.epa.gov/nepa.

Weekly receipt of Environmental Impact Statements

Filed 03/21/2016 Through 03/25/2016

Pursuant to 40 CFR 1506.9.

Notice

Section 309(a) of the Clean Air Act requires that EPA make public its comments on EISs issued by other Federal agencies. EPA's comment letters on EISs are available at: http://www.epa.gov/compliance/nepa/eisdata.html.

EIS No. 20160066, Final, BOP, KY, U.S. Penitentiary and Federal Prison Camp Letcher County, Review Period Ends: 05/02/2016, Contact: Issac Gaston 202-514-6470.

EIS No. 20160067, Final, USACE, NGA, MO, Next NGA West Campus in the Greater St. Louis Metropolitan Area, Review Period Ends: 05/02/2016, Contact: David Berczek 314-676-1123.

EIS No. 20160068, Final, USFS, ID, Becker Integrated Resource Project (Formerly the Becker Vegetation Management Project), Review Period Ends: 05/16/2016, Contact: Michael Feiger 208-392-6681.

EIS No. 20160069, Draft, FERC, TX, Golden Pass LNG Export Project, Comment Period Ends: 05/16/2016, Contact: Eric Howard 202-502-6263.

Amended Notices

EIS No. 20160034, Second Draft Supplemental, USFS, MT, Rock Creek Mine Project, Comment Period Ends: 04/19/2016, Contact: Michael Huffine 406-293-6211, Revision to FR Notice published 02/19/2016; Extending Comment Period from 04/04/2016 to 04/19/2016.

Dated: March 29, 2016.
Dawn Roberts,
Management Analyst, NEPA Compliance Division, Office of Federal Activities.

[FR Doc. 2016-07417 Filed 3-31-16; 8:45 am]

BILLING CODE 6560-50-P